FEDERAL FINANCIAL INSTITUTIONS EXAMINATION COUNCIL

[Docket No. AS12-18]

Appraisal Subcommittee Notice of Meeting

AGENCY: Appraisal Subcommittee of the Federal Financial Institutions Examination Council.

ACTION: Notice of meeting.

Description: In accordance with Section 1104(b) of Title XI of the Financial Institutions Reform, Recovery, and Enforcement Act of 1989, as amended, notice is hereby given that the Appraisal Subcommittee (ASC) will meet in closed session:

Location: FDIC—550 17th Street NW., Room MB-5085, Washington, DC 20429.

Date: September 27, 2012.

Time: Immediately following the ASC open session.

Status: Closed.

Matters To Be Considered

July 11, 2012 minutes—Closed Session.

August 8, 2012 minutes—Closed Session.

Preliminary discussion of State Compliance Reviews.

Dated: September 14, 2012.
James R. Park,
Executive Director.

[FR Doc. 2012-23059 Filed 9-18-12; 8:45 am]

BILLING CODE P